DEPARTMENT OF DEFENSE

Department of the Army; Corps of Engineers

Intent To Prepare a Draft Supplemental Environmental Impact Statement/Supplemental Environmental Impact Report for the Pacific Energy Crude Oil Marine Terminal on Pier 400 in the Port of Los Angeles, Los Angeles County, California

AGENCY: U.S. Army Corps of Engineers, Los Angeles District, DoD.

ACTION: Notice of intent.

SUMMARY: USACE and LAHD previously prepared and certified the Deep Draft Navigation Improvements, Los Angeles and Long Beach Harbors, San Pedro Bay, California Final SEIS/SEIR (Deep Draft EIS/EIR) that in part analyzed the impacts of creation of Pier 400 from dredge material and the subsequent construction and operation of a new liquid bulk terminal on the new Pier 400 land (USACE and LAHD, 1992). LAHD approved the Deep Draft SEIS/SEIR in its action of November 18, 1992; and the USACE issued a Record of Decision (ROD) on January 21, 1994. The SEIS/SEIR being prepared for this specific action is a supplement to the Deep Draft EIS/EIR. The landside developments will include (1) development and construction of the liquid bulk marine terminal facilities on Pier 400, (2) construction of product storage terminals on Terminal Island and/or other suitable sites, (3) construction of a 42-inch pipeline to connect the Marine Terminal to the Storage Terminals, (4) construction of two 36-inch pipelines from the Storage Terminals to link with an existing 36-inch pipeline running between the ExxonMobil Southwest Terminal on Terminal Island and the Ultramar Liquid Bulk Terminal on Mormon Island (one of the 36-inch pipelines would deliver product to the Exxon/Mobil Southwest Terminal and the other would deliver product to the Ultramar Liquid Bulk Terminal), and (5) construction of a 24-inch pipeline from the Ultramar Terminal to the Ultramar/Valero Refinery located north of the Terminal Island Freeway and south of Anaheim Street.

The primary Federal concern is the dredging and discharging of materials within waters of the U.S. and potential impacts on the human environment. Under section 404 of the Clean Water Act, the Corps is authorized to approve discharges of dredged or fill material into waters of the U.S. Under section 10 of the Rivers and Harbors Act, the Corps may authorize activities that could affect navigable waters. The Corps is preparing an Environmental Impact Statement (EIS) pursuant to the National Environmental Policy Act (NEPA) prior to deciding whether or not to authorize the Proposed Action. The Corps may ultimately make a determination to permit or deny the Proposed Action, or permit or deny alternatives to the Proposed Action.

Pursuant to the California Environmental Quality Act (CEQA), the Port will serve as Lead Agency for the preparation of an Environmental Impact Report (EIR) for its consideration of development approvals within its jurisdiction. The Corps and the Port have agreed to jointly prepare a Draft SEIS/SEIR in order to optimize efficiency and avoid duplication. The Draft SEIS/SEIR is intended to be sufficient in scope to address Federal, State, and local requirements and environmental issues concerning the proposed activities and permit approvals.

FOR FURTHER INFORMATION CONTACT: Questions about the proposed action and Draft SEIS/SEIR can be answered by Mr. Joshua Burnam, Corps Project Manager, at 213-452-3294. Comments regarding the scope of the Draft SEIS/SEIR shall be addressed to: U.S. Army Corps of Engineers, Los Angeles District, Regulatory Branch, Attn: File Number 2004-00917-JLB, P.O. Box 532711, Los Angeles, California 90053-2325.

SUPPLEMENTARY INFORMATION: 1. Project Site and Background Information. The proposed marine terminal portion of this project would be located on the western side (Face C) and southern side (Face D) of Pier 400 in the Port's Planning Area 9. The currently identified new storage terminal sites would be located on Terminal Island and would also be in the Port's Planning Area 9. The proposed terminal would require approximately 4 million barrels of storage capacity. Five sites within the port (described below) with a total storage capacity of approximately 3.5 million barrels have already been identified. The total storage capacity will be limited to 3.5 million barrels pending identification of other sites in or outside the Port that could accommodate the project, in its entirety or in part, or accommodate the remaining needed capacity (approximately 500,000 barrels). Pacific Energy's anchor customer plans to use 1.0 million barrels of capacity and Pacific Energy would use the other 3.0 million barrels to serve other customers.

Reeves Avenue/Navy Way Site. The Reeves Avenue/Navy Way Site is a 10.82-acre (4.4-hectare) site that can accommodate four (4) 250,000-barrel storage tanks plus related manifolds and pumping equipment. The proposed 42-inch-diameter offloading pipeline from the Pier 400 Marine Terminal dock would terminate at this site. The property that would be utilized by Pacific Energy is under the control of the LAHD and excludes the nearby strip of land controlled by the U.S. Navy.

Site 6a. This 9.72-acre (3.9-hectare) site, North of Seaside Avenue, is narrow and long and would not provide sufficient width for the construction of 250,000-barrel storage tanks. However, Pacific Energy could fit 140,000-barrel tanks into this space and would build four (4) tanks for a total capacity of 560,000 barrels.

Naval Reserve Center Site. The Naval Reserve Center Site is located east of Terminal Way between Seaside Avenue and Reeves Avenue. Pacific Energy could build three (3) 250,000-barrel tanks on the property. Pacific Energy assumes that the easterly half of this property, which is approximately 11 acres (4.5 hectares), could be used for the proposed project since this section of the property is either vacant or is being used for operations which could be easily located elsewhere. Pacific Energy's design maintains the existing entrance to the property, the large parking area on the westerly half, and the main Navy Reserve building in the Northwest corner. LAHD has begun consultation with the U.S. Navy concerning use of this site.

Seaside Avenue/Terminal Way Site. The Seaside Avenue/Terminal Way Site is a 12.47-acre (5.0-hectare) triangular shaped piece of property that is split in half by an active rail system. However, relocation of the existing rail to the inside edge of the property would allow Pacific Energy to build three (3) 250,000-barrel tanks at this location.

Pier 400 Site. Pacific Energy could build one (1) 500,000-barrel storage tank on the Face D side of Pier 400. This tank would be built in conjunction with other offloading equipment required for the new marine terminal such as pumps, manifolds, electrical buildings, and a small 50,000-barrel surge tank to be used for pumping operations. Use of this site will require consultation with the U.S. Fish and Wildlife Service and the California Department of Fish and Game regarding the nearby least tern nesting site on Pier 400.

2. Proposed Action. Construction would consist of three primary activities, i.e., marine terminal construction, storage terminal (tank farm) construction, and pipeline construction.

Marine Terminal Construction. The principal elements of the proposed marine terminal project are described below.

1. Construct and operate the following marine structures:

(a) Construct approximately 6000 square feet (SF) of unloading platform (ULP) with dock house and placement of 8 steel and/or concrete piles in waters of the U.S.

(b) Construct approximately 8000 SF of breasting dolphins (BD), and placement of approximately 16 steel and/or concrete piles.

(c) Construct approximately 8000 SF of north and south trestles (NST) with roadway, and pipe-way, and placement of approximately 20 steel and/or concrete piles.

(d) Construct approximately 270-foot wharf (23,500 SF) along the existing rock dike and adjoining the NST, and placement of approximately 70 concrete piles.

(e) Construct approximately 4500 SF of walkway, and placement of approximately 8 steel and/or concrete piles.

(f) Construct approximately 1500 SF of floating dock and gangway and placement of approximately 8 concrete piles.

(g) Construct approximately 6 power capstans (shore mooring points) with approximately 48 concrete piles.

(h) Construct control building.

(i) Construct fire protection system.

(j) Construct spill containment boom.

2. Construct and develop 10 acres of backland area for roadway, pipelines, buildings and landscaping.

Offloading Berth. The proposed liquid bulk-offloading berth would be designed to accommodate marine crude oil tankers up to 375,000 DWT, with a length overall (LOA) of 1,200 ft (366 m) and 2.8 million barrel capacity. The maximum allowable vessel draught at the proposed Pier 400 Berth is 79.5 ft (24.2 m). The offloading arms would be designed to deliver crude oil from ships to the proposed storage terminals at rates that average 52,500 gallons per minute (75,000 barrels per hour [BPH]). Initially, the marine terminal would deliver an average of about 150,000 barrels per day from vessels to the proposed storage terminals.

Storage Terminal (Tank Farm) Construction. Storage terminals with 3.5 million barrels of capacity would be constructed at the sites previously described. An additional site with up to 500,000 barrels of capacity has yet to be identified. This remaining unidentified site may be located on or off of Port property.

The proposed tanks would be designed for crude oil storage and service. The total number of tanks will depend on the final selection of tank sites. It is anticipated that the tanks would be external floating roof, drain dry, welded steel crude oil storage tanks, designed and constructed in accordance with the API Standard 650, Welded Steel Tanks for Oil Storage. Although the final dimensions of the tanks would be determined during detailed design, the current proposed dimensions for a 500,000-barrel tank are nominally 285-ft (86.9 m) diameter by 48-ft (14.6 m) tall.

Principal components of the storage terminals to be constructed would be:

(1) External floating roof, drain dry, welded steel crude oil storage tanks.

(2) Containment structures and dikes including primary containment structures that encircle all tanks.

(3) Control, switchgear, and storage buildings.

(4) Electrical substation and electrical power system.

(5) Fire suppression and emergency response systems.

Pipeline Construction. Pipelines to be constructed would include a 42-inch pipeline from the Pier 400 Marine Terminal to the Storage Terminals, two 36-inch pipelines from the Storage Terminals to connect to the existing Kinder Morgan Energy Partners (KMEP) 36-inch pipeline at a point on Terminal Island, between ExxonMobil Southwest Terminal, and the Ultramar Liquid Bulk Terminal on Mormon Island. A new 24-inch pipeline would be constructed from the Ultramar Liquid Bulk Terminal on Mormon Island, to the Ultramar/Valero Refinery.

Proposed Action Operation: Activities and system elements that would be associated with the operation of the Marine Terminal, the Storage Terminals, and the Pipelines are listed below.

(1) Site access and security.

(2) Process control and safety systems.

(3) Vapor and leak monitoring/detection.

(4) Spill detection and containment.

(5) Storm water drainage and treatment system.

(6) Wastes/waste handling.

(7) Chemical storage (lubricating oil, hydraulic fluid, water based solvents, fire fighting foam surfactant, oil drag reducing agents, corrosion inhibitors, etc.).

(8) Lighting.

(9) Product transfer operations.

(10) Fire detection and suppression.

(11) Cathodic protection system.

3. Issues: There are several potential environmental issues that will be addressed in the SEIS/SEIR. Additional issues may be identified during the scoping process. Issues initially identified as potentially significant include:

(1) Impacts to air quality from new air emissions;

(2) Potential for cultural impacts due to pipeline disturbance of historical resources;

(3) Geological issues, including risks from known seismic activity and the presence of expansive soils;

(4) Potential for hazardous materials impacts through transport and use of crude oil products and risk of upset or accident;

(5) Impacts to hydrology, including known risks due to seiches and tsunamis;

(6) Potential impacts on public health and safety;

(7) Potential impacts on aesthetics due to light and glare;

(8) Potential impacts on biological resources, in particular impact to the least tern nesting area on Pier 400;

(9) Potential noise impacts during both construction and operation phases;

(10) Impacts to marine vessel traffic, including marine navigation; and

(11) Cumulative impacts.

Alternatives: Alternatives initially being considered for the proposed project include the following:

(1) Proposed Action as described above (does not require dredging activity).

(2) Expansion of other crude oil terminals within the POLA.

(3) Development of a new landfill and/or terminal within the POLA.

(4) Expansion or construction of a crude oil terminal outside of the POLA.

(5) Lightering of crude from deep-water locations in the Inner or Outer Harbor.

(6) Development of a deepwater offshore mooring site with connection to onshore storage facilities via underwater pipeline.

(7) Combination marine terminal/lightering operation.

(8) Near-shore dredging with wharf setback.

(9) No Project (no physical changes).

(10) Relocation of existing liquid bulk facilities with wharf construction.

(11) No Federal Action (no structures or dredging in waters of the U.S.).

5. Scoping Process. The Corps and the Port will jointly conduct a scoping meeting for the proposed project. English and Spanish translation services will be provided at the meeting. The public scoping meeting will be held to receive public comment and assess public concerns regarding the appropriate scope of the Draft SEIS/SEIR. Participation in the public meeting by Federal, State and local agencies and other interested organizations and persons are encouraged. Parties interested in being added to the Corps' electronic mail notification list for Port projects in Los Angeles District can register at: http://www.spl.usace.army.mil/regulatory/register.html. This list will be used in the future to notify the public about scheduled hearings and availability of future public notices.

The Corps of Engineers will also be consulting with the U.S. Fish and Wildlife Service under the Endangered Species Act and Fish and Wildlife Coordination Act, and with the National Marine Fisheries Service under the Magnuson-Stevens Act. Additionally, the SEIS/SEIR will assess the consistency of the proposed Action with the Coastal Zone Management Act and potential water quality impacts pursuant to section 401 of the Clean Water Act.

The public scoping meetings will be held July 8th, 2003 at the Banning's Landing Recreation Center in Wilmington beginning at 6:30 p.m. Written comments will be received until July 16, 2003.

6. Availability of the Draft SEIS/SEIR. The Draft SEIS/SEIR is expected to be published and circulated in the Spring of 2005, and a Public Hearing will be held after its publication.

Dated: May 27, 2004.
David E. Hurley,
Major, U.S. Army, Acting Deputy District Engineer.

[FR Doc. 04-14397 Filed 6-24-04; 8:45 am]

BILLING CODE 3710-92-P